DEPARTMENT OF ENERGY

Federal Energy Regulatory Commission

[Docket No. RP03-433-003]

Energy West Development, Inc.; Notice of Compliance Filing

December 30, 2003.

Take notice that on December 19, 2003, Energy West Development, Inc. (Energy West), tendered for filing as part of its FERC Gas Tariff, Original Volume No. 1, the following tariff sheets, with an effective date of July 1, 2003:

Substitute First Revised Sheet No. 23

Substitute First Revised Sheet No. 24

Substitute First Revised Sheet No. 29

Substitute First Revised Sheet No. 33

Substitute First Revised Sheet No. 42

Substitute First Revised Sheet No. 60

Energy West states that the filing is being made in compliance with an order issued by the Commission on December 5, 2003, which rejected certain tariff sheets previously filed by Energy West as inconsistent with the Commission's pagination guidelines. Energy West states that the instant filing corrects the pagination, revises its tariff provision so that penalty revenues will be credited to all non-offending interruptible and firm shippers net of costs, and corrects the NAESB tariff and cross-references to reflect the Version 1.6 NAESB Standards incorporated verbatim in the tariff and those incorporated by reference.

Energy West further states that copies of the filing have been mailed to each of its customers and interested parties.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's web site under the e-Filing link.

Magalie R. Salas,
Secretary.

[FR Doc. E4-5 Filed 1-8-04; 8:45 am]

BILLING CODE 6717-01-P